DEPARTMENT OF TRANSPORTATION

Surface Transportation Board

[STB Finance Docket No. 35304]

San Francisco Bay Railroad-Mare Island—Operation Exemption—California Northern Railroad

San Francisco Bay Railroad-Mare Island (SF Bay-Mare Is.), a noncarrier, has filed a verified notice of exemption under 49 CFR 1150.31 to operate approximately 8 miles of unmarked rail line (the line) owned by the City of Vallejo (the City) and Lennar Mare Island, LLC (LMI), in Vallejo, CA. There are no mileposts on the line; however, the track is described as extending from a junction located on the California Northern Railroad approximately 800 feet north of Sereno Drive in Vallejo, CA, to the end of track just south of Detoro Way on Mare Island in the City of Vallejo, CA, and branching at A Street on Mare Island to the end of track at approximately L Street on Mare Island in the City of Vallejo, CA. SF Bay-Mare Is. states that it intends to interchange traffic with the California Northern Railroad at Flosden Acres, in Vallejo, CA.

This transaction is related to a concurrently filed notice of exemption for David Gavrich to continue in control of SF Bay-Mare Is. upon SF Bay-Mare Is.'s becoming a Class III rail carrier. See David Gavrich—Continuance in Control Exemption—San Francisco Bay Railroad-Mare Island, STB Finance Docket No. 35303.

SF Bay-Mare Is. is currently negotiating an operating agreement with the City. SF Bay-Mare Is. states that it intends to commence operations over the line as soon as authority is granted.

SF Bay-Mare Is. certifies that its projected annual revenues as a result of the transaction will not exceed those that would qualify it as a Class III rail carrier.

Pursuant to the Consolidated Appropriations Act, 2008, Public Law 110-161, § 193, 121 Stat. 1844 (2007), nothing in this decision authorizes the following activities at any solid waste rail transfer facility: collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than October 21, 2009 (at least 7 days before the exemption becomes effective).

An original and 10 copies of all pleadings, referring to STB Finance Docket No. 35304, must be filed with the Surface Transportation Board, 395 E Street, SW., Washington, DC 20423-0001. In addition, a copy of each pleading must be served on John F. McHugh, 6 Water St., New York, NY 10004.

Board decisions and notices are available on our Web site at http://www.stb.dot.gov.

Decided: October 8, 2009.
By the Board, Rachel D. Campbell, Director, Office of Proceedings.
Kulunie L. Cannon,
Clearance Clerk.

[FR Doc. E9-24693 Filed 10-13-09; 8:45 am]

BILLING CODE 4915-01-P